GENERAL SERVICES ADMINISTRATION

48 CFR Part 552

[GSAR Case 2016-G502; Docket No. GSAR-2019-0019; Sequence No. 1]

RIN 3090-AK14

General Services Administration Acquisition Regulation (GSAR); Submission and Distribution of Federal Supply Schedule (FSS) Price Lists

AGENCY: Office of Acquisition Policy, General Services Administration (GSA).

ACTION: Direct final rule with request for comments.

SUMMARY: This direct final rule amends the General Services Administration Acquisition Regulation (GSAR) to update GSAR clauses applicable to the submission and distribution of Federal Supply Schedule (FSS) Price Lists.

DATES: Effective Date: This final rule is effective on March 9, 2020 without further notice unless adverse comments are received by February 10, 2020. If GSA receives adverse comments, we will publish a timely withdrawal in the Federal Register informing the public that the rule will not take effect.

ADDRESSES: Submit comments in response to GSAR Case 2016-G502 by any one of the following methods:

• Regulations.gov: http://www.regulations.gov. Submit comments via the Federal eRulemaking portal by searching for “GSAR Case 2016-G502.” Select the link “Submit a Comment” that corresponds with “GSAR Case 2016-G502.” Follow the instructions provided at the “Submit a Comment” screen. Please include your name, company name (if any), and “GSAR Case 2016-G502” on your attached document. To confirm receipt of your comment(s), please check www.regulations.gov, approximately two to three days after submission to verify posting (except allow 30 days for posting of comments submitted by mail).

• Mail: General Services Administration, Regulatory Secretariat (MVCB), ATTN: Ms. Mandell/GSAR 2016-G502, 1800 F Street NW, 2nd Floor, Washington, DC 20405.

Instructions: Please submit comments only and cite GSAR Case 2016-G502, in all correspondence related to this case. All comments received will be posted without change to http://www.regulations.gov, including any personal and/or business confidential information provided.

FOR FURTHER INFORMATION CONTACT: Ms. Dana Bowman, Procurement Analyst, at gsarpolicy@gsa.gov, for clarification of content. For information pertaining to status or publication schedules, contact the Regulatory Secretariat at 202-501-4755. Please cite GSAR Case 2016-G502.

SUPPLEMENTARY INFORMATION:

I. Background

GSA is amending the General Services Administration Acquisition Regulation (GSAR) at part 552, Solicitation Provisions and Contract Clauses, to update and bring current practices for submitting and distributing FSS Price Lists. Specifically, GSA is amending clauses 552.238-77, Submission and Distribution of Authorized Federal Supply Schedule (FSS) Price Lists, and 552.23-82, Modifications (Federal Supply Schedules).

Currently, regulations reference submission of paper copies of the Authorized FSS Price List for approval by the contracting officer, and distribution of paper copies to a designated mailing list. This is no longer in line with current practices.

Under this rule, the contractor will submit its FSS price list on a common-use electronic medium as prescribed by GSA. Eligible ordering activities will utilize GSA's online shopping and ordering system to review a contractors' price lists.

Updating regulations applicable to the submission and distribution of FSS price lists as described under the rule has many benefits, which include:

The elimination of duplicative requirements related to the submission of paper price lists;

The elimination of requirements to distribute paper price lists to a customer mailing list; and

Streamlined requirements for price lists that are consistent with current practices and can accommodate the continued modernization of the FSS Program.

II. Authority for This Rulemaking

Title 41 United States Code (U.S.C.) 152(3) authorizes GSA to establish procedures for the FSS Program. GSA's FSS procedures are deemed to meet the Competition in Contracting Act (CICA) requirement of full and open competition as long as participation has been open to all responsible sources; and orders and contracts under those procedures result in the lowest overall cost alternative to meet the needs of the Federal Government.

This is also consistent with the Federal Acquisition System and its principle to minimize administrative operating costs (Federal Acquisition Regulation (FAR) 1.102(b)(2)). The Federal Acquisition System is designed to deliver the best value product or service to the customer in terms of cost, quality, and timeliness.

By eliminating duplication and streamlining the requirements for price lists, GSA is making it easier to do business with the Government.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

IV. Executive Order 13771

This final rule is not subject to E.O. 13771, because this rule is not a significant regulatory action under E.O. 12866.

V. Regulatory Flexibility Act

The General Services Administration does not expect this rule to have a significant economic impact on a substantial number of small entities within the meaning of the Regulatory Flexibility Act, 5 U.S.C. 601, et seq. Though, the elimination of regulations applicable to the submission and distribution of FSS price lists will yield positive benefits for small businesses.

Therefore, a Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C. 610 (GSAR Case 2016-G502), in correspondence.

VI. Paperwork Reduction Act

The Paperwork Reduction Act (44 U.S.C. Chapter 35) does apply because the direct final rule impacts two clauses with information collection requirements. However, these clause revisions do not impose additional information collection requirements to the burden previously approved under existing OMB Control Number 3090-0302.

List of Subjects in 48 CFR Part 552

Government procurement.

Jeffrey A. Koses,
Senior Procurement Executive, Office of Acquisition Policy, Office of Government-wide Policy.

Therefore, GSA amends 48 CFR part 552 as set forth below:

PART 552—SOLICITATION PROVISIONS AND CONTRACT CLAUSES

1. The authority citation for 48 CFR part 552 continues to read as follows:

Authority: 40 U.S.C. 121(c).

2. Revise section 552.238-77 to read as follows:

552.238-77 Submission and Distribution of Authorized Federal Supply Schedule Price Lists.

As prescribed in 538.273(d)(1), insert the following clause:

Submission and Distribution of Authorized Federal Supply Schedule Price Lists (FEB 2020)

(a) The Contractor shall submit its Authorized Federal Supply Schedule Price List on a common-use electronic medium as prescribed by GSA. Some structured data entry in a prescribed format may be required.

(b) Eligible ordering activities will utilize GSA's online shopping and ordering system to review a Contractors' price lists.

End of Clause

552.238-82 [Amended]

3. Amend section 552.238-82 by—

a. Removing from paragraph (b)(3) “Contractor shall submit” and adding “Contractor shall transmit” in its place (twice), respectively;

b. In Alternate I:

i. Removing from the introductory text “paragraph (f)” and adding “paragraph (e)” in its place; and

ii. Redesignating paragraph (f) as paragraph (e).

[FR Doc. 2019-28016 Filed 1-8-20; 8:45 am]

BILLING CODE 6820-61-P